DEPARTMENT OF HEALTH AND HUMAN SERVICES

National Institutes of Health

National Cancer Institute Amended; Notice of Meeting

Notice is hereby given of a change in the meeting of the National Cancer Institute Special Emphasis Panel, July 14, 2015, 11:00 a.m. to July 15, 2015, 5:00 p.m., National Cancer Institute Shady Grove, Shady Grove, 9609 Medical Center Drive, (7/14 2E030) (7/15 1E030), Rockville, MD 20850 which was published in the Federal Register on June 23, 2015, 80 FR 35964.

The meeting notice is amended to change the dates from July 14-15, 2015 to July 29-30, 2015. The location remains the same; however the room numbers are changed to 2W030/2W914. The meeting is closed to the public.

Dated: June 26, 2015.
Melanie J. Gray,
Program Analyst, Office of Federal Advisory Committee Policy.

[FR Doc. 2015-16214 Filed 7-1-15; 8:45 am]

BILLING CODE 4140-01-P